DEPARTMENT OF LABOR

Federal Mine Safety and Health Review Commission

Sunshine Act Meeting; Meeting Cancellation Notice

The following Commission meeting has been canceled. No earlier announcement of the cancellation was possible.

Time and Date: 10:00 a.m., Thursday, March 9, 2000.

Place: Room 6005, 6th Floor, 1730 K Street, N.W., Washington, D.C.

Status: Open.

Matters to be Considered: Proposed Settlement Judge Rule (Notice of proposed rulemaking was published at 64 FR 61236 (Nov. 10, 1999)).

Contact Person for More Info: Jean Ellen (202) 653-5629/(202) 708-9300 for TDD Relay/1-800-877-8339 for toll free.

[FR Doc. 00-6511 Filed 3-13-00; 2:08 pm]

BILLING CODE 6735-01-M